DEPARTMENT OF TRANSPORTATION

Federal Aviation Administration

Twenty Seventh Meeting: RTCA Special Committee 213, Enhanced Flight Vision Systems/Synthetic Vision Systems (EFVS/SVS)

AGENCY: Federal Aviation Administration (FAA), U.S. Department of Transportation (DOT).

ACTION: Meeting notice of RTCA Special Committee 213, Enhanced Flight Vision Systems/Synthetic Vision Systems (EFVS/SVS).

SUMMARY: The FAA is issuing this notice to advise the public of the twenty seventh meeting of the RTCA Special Committee 213, Enhanced Flight Vision Systems/Synthetic Vision Systems (EFVS/SVS).

DATES: The meeting will be held November 5, 2014 from 2:30-5:00 p.m.

ADDRESSES: https://rtca.webex.com/rtca/j.php?MTID=m8c15ab559c5c8380811759806531cae4.

Meeting number: 684 099 495

Meeting password: November 5

Join by phone

Dial: 1-888-481-3032 International: 617-801-9600 Participant Passcode: 56022675

FOR FURTHER INFORMATION CONTACT: Tim Etherington, tjetheri@rockwellcollins.com, (319) 295-5233 or mobile at (319) 431-7154, Patrick Krohn, pkrohn@uasc.com, telephone (425) 602-1375 or mobile at (425) 829-1996 and The RTCA Secretariat, 1150 18th Street NW., Suite 910, Washington, DC 20036, or by telephone at (202) 330-0652/(202) 833-9339, fax at (202) 833-9434, or Web site at http://www.rtca.org. Additional contact information: RTCA contact is Jennifer Iverson, jiverson@rtca.org, (202) 330- 0662.

SUPPLEMENTARY INFORMATION: Pursuant to section 10(a) (2) of the Federal Advisory Committee Act (Pub. L. 92-463, 5 U.S.C., App.), notice is hereby given for a meeting of Special Committee 213. The agenda will include the following:

November 5th

Plenary Discussion

• Introductions and administrative items

• DO-315C FRAC Comment Review and Disposition

• Approval of DO-315C to go to Program Management Committee

• Administrative items (new meeting location/dates, action items etc.)

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on October 8th, 2014.
Mohannad Dawoud,
Management Analyst, NextGen, Business Operations Group, Federal Aviation Administration.

[FR Doc. 2014-24537 Filed 10-15-14; 8:45 am]

BILLING CODE 4910-13-P